DEPARTMENT OF HEALTH AND HUMAN SERVICES

National Institutes of Health

National Institute of Dental & Craniofacial Research; Amended Notice of Meeting

Notice is hereby given of a change in the meeting of the National Advisory Dental and Craniofacial Research Council, September 18, 2003, 8:30 a.m. to September 18, 2003, 5 p.m., National Institutes of Health, Building 31, 31 Center Drive, Bethesda, MD 20892, which was published in the Federal Register on August 27, 2003, 68FR166PG51-581.

The meeting will be held on October 2, 2003. The meeting is partially closed to the public.

Dated: October 1, 2003.
LaVerne Y. Stringfield,
Director, Office of Federal Advisory Committee Policy.

[FR Doc. 03-25687 Filed 10-9-03; 8:45 am]

BILLING CODE 4140-01-M